DEPARTMENT OF TRANSPORTATION

Surface Transportation Board

[Docket No. FD 35545]

Finger Lakes Railway Corp.—Acquisition and Operation Exemption—CSX Transportation, Inc.

Finger Lakes Railway Corp. (FGLK), a Class III carrier, has filed a verified notice of exemption under 49 CFR 1150.41 to acquire from CSX Transportation, Inc. (CSXT) and to operate a 0.73-mile line of railroad extending between milepost QCS 2.88 and milepost QCS 3.61 near Solvay, Onondaga County, N.Y., and lease from CSXT the underlying real property.¹

¹ FGLK states that it is also acquiring 2.17 miles of track in the Solvay Yard, which is adjacent to the subject rail line, but further states that acquisition of this yard track does not require Board authorization.

FGLK certifies that its projected annual revenues as a result of the transaction will not result in the creation of a Class II or Class I rail carrier. However, because its projected annual revenues will exceed $5 million, FGLK also has certified to the Board that that it has complied with the employee notice requirements of 49 CFR 1150.42(e). Pursuant to that provision, the exemption may not become effective until 60 days from the August 25, 2011 date of certification to the Board, which would be October 24, 2011. Thus, FGLK may consummate the transaction and commence operating the line on or after that date.

In its notice, FGLK states that it will continue to interchange traffic with CSXT. FGLK further states that there are no interchange commitments with respect to its existing interchange with CSXT, and that no interchange commitments will be required as part of the instant transaction.

If the verified notice contains false or misleading information, the exemption is void ab initio. Petitions to revoke the exemption under 49 U.S.C. 10502(d) may be filed at any time. The filing of a petition to revoke will not automatically stay the effectiveness of the exemption. Stay petitions must be filed no later than October 17, 2011 (at least 7 days before the exemption becomes effective).

An original and 10 copies of all pleadings, referring to Docket No. FD 35545, must be filed with the Surface Transportation Board, 395 E Street, SW., Washington, DC 20423-0001. In addition, a copy of each pleading must be served on Eric M. Hocky, Thorp Reed & Armstrong, LLP, One Commerce Square, 2005 Market Street, Suite 1000, Philadelphia, PA 19103.

Board decisions and notices are available on our Web site at http://www.stb.dot.gov.

Decided: October 3, 2011.
By the Board.
Rachel D. Campbell,
Director, Office of Proceedings.
Jeffrey Herzig,
Clearance Clerk.

[FR Doc. 2011-25892 Filed 10-6-11; 8:45 am]

BILLING CODE 4915-01-P